DEPARTMENT OF COMMERCE

National Oceanic and Atmospheric Administration

RIN 0648-729

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will hold a meeting of the Spiny Lobster Review Panel.

DATES: The meeting will be held on Monday, February 9, 2015, from 9 a.m. Until 5 p.m.

ADDRESSES: Meeting address: The meeting will be held at the Marriott Beachside Key West Hotel, located at 3841 North Roosevelt Boulevard, Key West, FL 33040; telephone: (305) 296-8100.

Council address: Gulf of Mexico Fishery Management Council, 2203 North Lois Avenue, Suite 1100, Tampa, FL 33607.

FOR FURTHER INFORMATION CONTACT: Dr. Morgan Kilgour, Fishery Biologist, Gulf of Mexico Fishery Management Council; telephone: (813) 348-1630; fax: (813) 348-1711; email: morgan.kilgour@gulfcouncil.org.

SUPPLEMENTARY INFORMATION: The items of discussion on the agenda are as follows:

Spiny Lobster Review Panel Agenda, Monday, February 9, 2015, 9 a.m. until 5 p.m.

1. Introductions.

2. Council charge—“If the ACT is exceeded the Councils will convene a review panel to determine if corrective action is necessary to prevent the ACL from being exceeded. Furthermore, if the catch exceeds the ACL more than once in the last four consecutive years, the entire system of ACLs and AMs would be re-evaluated as required by the National Standard 1 guidelines.”

3. Scope of work.

4. Recent spiny lobster landings.

5. Potential factors contributing to landings increase—topics for discussion:

a. Former stock assessment summary.

b. Economic value through time.

i. Other factors affecting effort and catch.

c. Stone crab landings.

d. Types of effort, permits, and landings.

e. Overview of Annual Catch Target/Annual Catch Limit/Overfishing Limit using different metrics.

i. Time series analyses of ACT, ACL, and OFL.

ii. Mean ± 1 s.d., 1.5 s.d., and 2 s.d. using the most recent 10 years data (in Amendment 10).

iii. Mean ± 1 s.d., 1.5 s.d., and 2 s.d. from 2000-present.

f. Other.

i. PaV1 disease prevalence.

ii. Genetic information.

6. Discussion and panel recommendations.

7. Other Business.

—Adjourn—

For meeting materials see folder “Spiny Lobster Review Panel meeting Feb 2015” on Gulf Council file server. To access the file server, the URL is https://public.gulfcouncil.org:5001/webman/index.cgi, or go to the Council's Web site and click on the FTP link in the lower left of the Council Web site (http://www.gulfcouncil.org). The username and password are both “gulfguest”. The Agenda is subject to change.

The meeting will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: January 20, 2015.
Tracey L. Thompson,
Acting Deputy Director, Office of Sustainable Fisheries, National Marine Fisheries Service.

[FR Doc. 2015-01146 Filed 1-22-15; 8:45 am]

BILLING CODE 3510-22-P